DEPARTMENT OF HOMELAND SECURITY

Coast Guard

[Docket No. USCG-2024-0231]

National Commercial Fishing Safety Advisory Committee; April 2024 Meetings

AGENCY: U.S. Coast Guard, Department of Homeland Security.

ACTION: Notice of open Federal advisory committee meetings; correction.

SUMMARY: The Coast Guard published a notice on March 22, 2024, regarding meetings of the National Commercial Fishing Safety Advisory Committee (Committee). The meetings will take place on April 9, 10 and 11, 2024. The March 22 notice contained typographical errors listing the wrong year for two of these dates. This document corrects those errors.

FOR FURTHER INFORMATION CONTACT: Mr. Jonathan Wendland, Alternate Designated Federal Officer (ADFO) of the National Commercial Fishing Safety Advisory Committee, telephone 202-372-1245 or Jonathan.G.Wendland@uscg.mil.

Correction

In the Federal Register of March 22, 2024, in FR Doc. 2024-06106, on page 20488, in the second column, correct the first sentence of the DATES section to read: “The Committee will hold a meeting on Tuesday, April 9, 2024, from 8 a.m. until 5 p.m. eastern daylight time (EDT), Wednesday, April 10, 2024, from 8 a.m. until 5 p.m. EDT, and Thursday, April 11, 2024, from 8 a.m. until 5 p.m. EDT.”

Dated: March 28, 2024.
Michael T. Cunningham,
Chief, Office of Regulations and Administrative Law.

[FR Doc. 2024-06910 Filed 4-1-24; 8:45 am]

BILLING CODE 9110-04-P